DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Application for Authority for an Institution of Higher Education to Employ its Full-Time Students at Subminimum Wages Under Regulations 29 CFR Part 519 (WH-201). A copy of the proposed information collection request can be obtained by contacting the office listed below in the addresses section of this notice.

DATES: Written comments must be submitted to the office listed in the addresses section below on or before August 15, 2005.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION

I. Background

Fair Labor Standards Act (FLSA) section 14(b)(3), 29 U.S.C. 214(b)(3), authorizes the Secretary of Labor to provide certificates allowing institutions of higher education to employ their full-time students at subminimum wages, to the extent necessary to prevent curtailment of opportunities for employment. This section also sets limits on such employment and protects the full-time employment opportunities of other workers. The Department of Labor (DOL) has issued Regulations 29 CFR part 519 to implement the statutory provision. An institution of higher education uses Form WH-201, when applying for authorization to pay subminimum wages to its full-time students employed by the institution. The WH-201 application provides the information necessary to ascertain whether the requirements of section 14(b) have been met. This information collection is currently approved for use through November 30, 2005.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Wage and Hour Division seeks the approval of the extension of this information collection to carry out its responsibility to make a determination whether to grant or deny subminimum wage authority to the applicant. If the information were not collected, institutions of higher education would not have a mechanism to apply for authorization to pay full-time students at subminimum wages and job opportunities for full-time students would be reduced.

Type of Review: Extension.

Agency: Employment Standards Administration.

Title: Application for Authority for an Institution of Higher Education to Employ its Full-Time Students at Subminimum Wages under Regulations 29 CFR Part 519.

OMB Number: 1215-0080.

Agency Number: WH-201.

Affected Public: Business or other for-profit; Not-for-profit institutions.

Total Respondents: 15.

Total Annual Responses: 15.

Estimated Time per Response: 15 to 30 minutes.

Burden Hours Per Response (Recordkeeping): 1 minute.

Estimated Total Burden Hours (Reporting and Recordkeeping): 5.

Frequency: Annually.

Total Burden Cost (capital/startup): $0.

Total Burden Cost (operating/maintenance): $0.

Comments submitted in response to this notice will be summarized and/or included in the request for Office of Management and Budget approval of the information collection request; they will also become a matter of public record.

Dated: June 8, 2005.
Bruce Bohanon,
Chief, Branch of Management Review and Internal Control, Division of Financial Management, Office of Management, Administration and Planning, Employment Standards Administration.

[FR Doc. 05-11781 Filed 6-14-05; 8:45 am]

BILLING CODE 4510-27-P